DEPARTMENT OF STATE

[Public Notice: 12699]

Notice of Public Meeting: International Information and Communications Policy Division Stakeholder Briefing

ACTION: Notice of public meeting.

SUMMARY: The State Department will hold a public meeting at 1 p.m.-2:30 p.m. (ET) on WebEx with the Bureau of Cyberspace and Digital Policy's International Information and Communications Policy (CDP/ICP) division. The purpose of the meeting is to brief stakeholders on CDP/ICP's past and upcoming international engagements. These include engagement at the International Telecommunication Union (ITU), the Organization for Economic Cooperation and Development (OECD), the Asia Pacific Economic Cooperation (APEC) Forum Telecommunications and Information Working Group, the Group of Seven (G7) Industry, Digital & Technology Working Group, the Group of Twenty (G20) Digital Economy Working Group, other multilateral and bilateral processes and dialogues on international standards development for emerging technologies, as well as digital policy and information and communications technology policy issues.

DATES: The meeting will be on Wednesday, May 14, 2025.

FOR FURTHER INFORMATION CONTACT: Please contact Ryan Berger, Foreign Affairs Officer, CDP/ICP, at BergerRM@state.gov or 771-204-0169.

SUPPLEMENTARY INFORMATION: Additional information about the Bureau of Cyberspace and Digital Policy is accessible at https://www.state.gov/bureaus-offices/deputy-secretary-of-state/bureau-of-cyberspace-and-digital-policy/.

We encourage anyone wanting to attend this virtual meeting to register using the following link by 5 p.m. on Monday, May 12: https://statedept.webex.com/weblink/register/rcf38440e5075aa2e2c6c1279a653387a. Requests for reasonable accommodation made after May 7 will be considered but might not be able to be accommodated. The public may have an opportunity to provide comments at this meeting.

Agenda

Wednesday, May 14, 2025, at 1 p.m. (ET)

Opening Remarks

Briefings on CDP/ICP's past and upcoming activities

Public Comment

Adjournment

Stephan A. Lang,
U.S. Coordinator and Deputy Assistant Secretary, International Information and Communications Policy, Bureau of Cyberspace and Digital Policy, Department of State.

[FR Doc. 2025-06668 Filed 4-17-25; 8:45 am]

BILLING CODE 4710-10-P